DEPARTMENT OF HOMELAND SECURITY

Coast Guard

33 CFR Part 117

[Docket No. USCG-2008-0760]

Drawbridge Operation Regulation; Atlantic Intracoastal Waterway, Jay Jay, FL

AGENCY: Coast Guard, DHS.

ACTION: Notice of temporary deviation from regulations.

SUMMARY: The Commander, Seventh Coast Guard District, has issued a temporary deviation from the regulation governing the operation of the NASA Railroad bridge across the Atlantic Intracoastal Waterway, mile 876.6, at Jay Jay, FL. The deviation is necessary to perform rehabilitation work on the bridge. This deviation allows the bridge to not open to vessel traffic from 7 a.m. until 11 a.m. and from 1 p.m. until 5 p.m., Monday through Friday except Federal holidays until October 19, 2008. All other times the bridge will continue to operate in accordance with 33 CFR 117.261(j).

DATES: This deviation is effective from September 18, 2008 until October 19, 2008.

ADDRESSES: Documents indicated in this preamble as being available in the docket are part of docket USCG-2008-0760 and are available online at http://www.regulations.gov. They are also available for inspection or copying at two locations: the Docket Management Facility (M-30), U.S. Department of Transportation, West Building Ground Floor, Room W12-140, 1200 New Jersey Avenue, SE., Washington, DC 20590, between 9 a.m. and 5 p.m., Monday through Friday, except Federal holidays, and the Commander (dpb), Seventh Coast Guard District, 909 SE 1st Avenue, Room 432, Miami, Florida 33131-3028 between 8 a.m. and 4:30 p.m., Monday through Friday, except Federal holidays.

FOR FURTHER INFORMATION CONTACT: If you have questions on this rule, call Mr. Barry Dragon, Bridge Branch, Seventh Coast Guard District, at 305-415-6743. If you have questions on viewing the docket, call Renee V. Wright, Program Manager, Docket Operations, telephone 202-366-9826.

SUPPLEMENTARY INFORMATION: This deviation was requested by NASA, the bridge owner, in order to complete rehabilitation of the NASA Bridge, mile 876.6, of the Atlantic Intracoastal Waterway, Jay Jay, FL. The bridge has a vertical clearance of 7 feet in the closed position and a horizontal clearance of 90 feet. The work will require four hours of continuous closure followed by two hours for vessel passage followed by four hours of continuous closure, Monday through Friday except Federal holidays. All other times the bridge will operate in accordance with 33 CFR 117.261(j). This deviation period begins September 18, 2008 and ends on October 19, 2008. The bridge must return to its regular operating schedule immediately at the end of the designated time period. This deviation from the operating regulations is authorized under 33 CFR 117.35.

Dated: August 1, 2008.
Gregory E. Shapley,
Chief, Bridge Branch, Commander, Seventh Coast Guard District.

[FR Doc. E8-21891 Filed 9-17-08; 8:45 am]

BILLING CODE 4910-15-P